DEPARTMENT OF ENERGY

Federal Energy Regulatory Commission

Notice of Effectiveness of Exempt Wholesale Generator Status

Harmony Florida Solar, LLC | EG20-146-000
Taylor Creek Solar, LLC | EG20-147-000
Chicot Solar, LLC | EG20-148-000
Minco Wind I, LLC | EG20-149-000
Ponderosa Wind, LLC | EG20-150-000
Sky Global Power Two LLC | EG20-151-000
Day County Wind I, LLC | EG20-152-000
Baldwin Wind Energy, LLC | EG20-153-000
Weatherford Wind, LLC | EG20-154-000
High Majestic Wind I, LLC | EG20-155-000
Soldier Creek Wind, LLC | EG20-156-000
El Campo Wind, LLC | EG20-157-000
Wagyu Solar, LLC | EG20-158-000
Cubico Wagyu Lessee, LLC | EG20-159-000
Desert Harvest, LLC | EG20-160-000
Desert Harvest II LLC | EG20-161-000
Maverick Solar, LLC | EG20-162-000
Maverick Solar 4, LLC | EG20-163-000
Gray County Wind, LLC | EG20-164-000
Oliver Wind I, LLC | EG20-165-000
Tehachapi Plains Wind, LLC | EG20-166-000
Wheatridge Wind Energy, LLC | EG20-167-000
Wheatridge Wind II, LLC | EG20-168-000
Helios 5 MT, LLC | EG20-169-000
Cedar Springs Wind III, LLC | EG20-170-000
Cedar Springs Wind, LLC | EG20-171-000
Cedar Springs Transmission LLC | EG20-172-000
Calpine Northeast Development, LLC | EG20-174-000
Cerro Gordo Wind, LLC | EG20-175-000

Take notice that during the month of July 2020, the status of the above-captioned entities as Exempt Wholesale Generators Companies became effective by operation of the Commission's regulations. 18 CFR 366.7(a) (2019).

Dated: August 13, 2020.
Nathaniel J. Davis, Sr.,
Deputy Secretary.

[FR Doc. 2020-18141 Filed 8-18-20; 8:45 am]

BILLING CODE 6717-01-P